DEPARTMENT OF ENERGY

Office of Energy Efficiency and Renewable Energy

Bioenergy Technologies Office; Request for Information (RFI) Regarding Integrated Biorefinery Lessons Learned and Best Practices

AGENCY: Office of Energy Efficiency and Renewable Energy, Department of Energy.

ACTION: Notice.

SUMMARY: The U.S. Department of Energy (DOE), Bioenergy Technologies Office (BETO), invites public comment on its Request for Information (RFI) regarding Integrated Biorefinery Lessons Learned and Best Practices. The purpose of this RFI is to solicit feedback from industry, academia, research laboratories, government agencies, and other stakeholders on issues related to lessons learned and best practices developed during the design, financing, construction, commissioning, startup, shakedown and operations of pilot-, demonstration-, and commercial-scale integrated biorefineries.

DATES: Comments regarding the RFI must be received on or before July 15, 2014.

ADDRESSES: Comments may be emailed to: IBR_LL_RFI@go.doe.gov.

FOR FURTHER INFORMATION CONTACT: Requests for additional information should be directed to: IBR_LL_RFI@go.doe.gov.

SUPPLEMENTARY INFORMATION: The Office of Energy Efficiency and Renewable Energy (EERE), within the Department of Energy (DOE), accelerates development and facilitates deployment of energy efficiency and renewable energy technologies. EERE, through its Bioenergy Technologies Office (BETO) is seeking public comment on Integrated Biorefinery Lessons Learned and Best Practices. Since 2006, many companies that specialize in converting biomass to fuels and products have taken the next step to build and operate integrated pilot-, demonstration-, and commercial-scale facilities. During the design, financing, and construction of these projects many lessons learned and best practices have been developed. BETO compiles and updates the lesson learned and best practices information from its portfolio of integrated biorefinery projects as they move forward towards completion.

At a series of recent workshops conducted by BETO to garner industry input on potential Funding Opportunity Announcements (FOAs), BETO was repeatedly informed that the dissemination of lessons learned and best practices was of great interest to the bioindustry. BETO recognizes that some lessons learned and best practices may be considered business sensitive, proprietary, privileged or otherwise confidential information. As such, BETO does not generally release this type of information without prior approval. However, lessons learned and best practices that are of a general and common nature can be shared and it is BETO's objective to help advance the state of the bioenergy technology industry as a whole by compiling and disseminating this type of high-level, cross-cutting information.

One way in which BETO is attempting to focus its efforts in this area is to request industry input through this Request for Information (RFI). BETO hopes to collect information regarding what lessons learned and best practices the industry has developed and is interested in, discover what lessons learned and best practices the industry is willing to share, and provide a forum in which to share this information with the bioenergy community. Assuming sufficient interest is provided in response to this RFI and meaningful data can be collected, BETO anticipates inaugurating an interactive forum focused on lessons learned and best practices at its upcoming Biomass 2014 Conference (http://www.energy.gov/eere/bioenergy/biomass-2014-growing-future-bioeconomy), which is currently scheduled to be held on July 29-30, 2014 in Washington, DC. In its RFI, DOE requests comments, information, and recommendations on Lessons Learned and Best practices associated with the design financing, construction, commissioning, startup, shakedown and operations of pilot-, demonstration-, and commercial-scale integrated biorefineries. Because information received in response to this RFI may be used to structure future programs and FOAs and/or otherwise be made available to the public, respondents are strongly advised to clearly and conspicuously mark any business sensitive, proprietary, privileged or otherwise confidential information in their response. The RFI, titled, “Integrated Biorefinery Lessons Learned and Best Practices”, is available at: https://eere-exchange.energy.gov.

Issued in Washington, DC, on: June 25, 2014.
Jonathan Male,
Technology Office Director, Bioenergy Technologies Office, Energy Efficiency and Renewable Energy.

[FR Doc. 2014-15511 Filed 7-1-14; 8:45 am]

BILLING CODE 6450-01-P